DEPARTMENT OF TRANSPORTATION

Federal Aviation Administration

14 CFR Part 95

[Docket No. 30814; Amdt. No. 497]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective Date: 0901 UTC, December 15, 2011.

FOR FURTHER INFORMATION CONTACT: Rick Dunham, Flight Procedure Standards Branch (AMCAFS-420), Flight Technologies and Programs Division, Flight Standards Service, Federal Aviation Administration, Mike Monroney Aeronautical Center, 6500 South MacArthur Blvd., Oklahoma City, OK 73169 (Mail addresses: P.O. Box 25082 Oklahoma City, OK 73125) telephone: (405) 954-4164.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC on November 11, 2011.
John McGraw,
Deputy Director, Flight Standards Service.

Adoption of the Amendment

Accordingly, pursuant to the authority delegated to me by the Administrator, part 95 of the Federal Aviation Regulations (14 CFR part 95) is amended as follows effective at 0901 UTC, December 15, 2011.

PART 95—IFR ALTITUDES

1. The authority citation for part 95 continues to read as follows:

Authority: 49 U.S.C. 106(g), 40103, 40106, 40113, 40114, 40120, 44502, 44514, 44719, 44721.

2. Part 95 is amended to read as follows:

REVISIONS TO IFR ALTITUDES & CHANGEOVER POINTS AMENDMENT 497 EFFECTIVE DATE December 15, 2011

From | To | MEA
&95.6001 Victor Routes-U.S.
&95.6014 VOR Federal Airway V14 is Amended to Read in Part
Will Rogers, OK VORTAC | Totes, OK FIX | 3700
Drops, OK FIX | Tulsa, OK VORTAC
| NE BND | 2800
| SW BND | 3800
&95.6017 VOR Federal Airway V17 is Amended to Read in Part
Fator, TX FIX | *Nelee, TX FIX | **4000
*5500-MRA
**2800-MOCA
Centex, TX VORTAC | Waco, TX VORTAC | 3600
&95.6054 VOR Federal Airway V54 is Amended to Read in Part
Sandhills, NC VORTAC | *RAEFO, NC FIX | **6000
*6000-MRA
**2000-MOCA
**3000-GNSS MEA
*Raefo, NC FIX | Fayetteville, NC VOR/DME | **2800
*6000-MRA
**1900-MOCA
&95.6104 VOR Federal Airway V104 Is Amended to Read in Part
Malae, NY FIX | Plattsburgh, NY VORTAC | *7000
*6100-MOCA
*6100-GNSS MEA
&95.6113 VOR Federal Airway V113 is Amended to Read in Part
Helena, MT VORTAC | Lewistown, MT VOR/DME | 11100
&95.6137 VOR Federal Airway V137 is Amended to Read in Part
Palmdale, CA VORTAC | Vicky, CA FIX | *8000
*5800-MOCA
Vicky, CA FIX | Jeffy, CA FIX
| E BND | 8000
| W BND | 9000
Jeffy, CA FIX | Gorman, CA VORTAC
| E BND | 8000
| W BND | 10100
&95.6271 VOR Federal Airway V271 is Amended to Read in Part
Muskegon, MI VORTAC | WELKO, MI FIX | *3000
*2500-MOCA
Welko, MI FIX | Manistee, MI VOR/DME | *4000
*2400-MOCA
&95.6276 VOR Federal Airway V276 is Amended to Read in Part
Manta, NJ FIX | *Prepi, OA FIX | **6000
*8000-MRA
**2000-MOCA
**3000-GNSS MEA
&95.6287 VOR Federal Airway V287 is Amended to Read in Part
Fort Jones, CA VOR/DME | Klama, OR FIX | *12000
*9800-MOCA
Klama, OR FIX | *Rogue Valley, OR VORTAC
| SE BND | 12000
| NW BND | 8000
*7000-MCA Rogue Valley, OR VORTAC, SE BND
&95.6296 VOR Federal Airway V296 is Amended to Read in Part
Hustn, NC FIX | *Raefo, NC FIX | **5000
*6000-MRA
**2300-MOCA
**2400-GNSS MEA
*Raefo, NC FIX | Fayetteville, NC VOR/DME | **2800
*6000-MRA
**1900-MOCA
&95.6465 VOR Federal Airway V465 is Amended to Read in Part
Miles City, MT VOR/DME | Williston, ND VORTAC | *7000
*5200-MOCA
*6000-GNSS MEA
&95.6545 VOR Federal Airway V545 is Amended to Read in Part
Miles City, MT VOR/DME | Williston, ND VORTAC | *7000
*5300-MOCA
*6000-GNSS MEA
&95.6319 ALASKA VOR Federal Airway V319 is Amended to Read in Part
Vidda, AK FIX | Weeke, AK FIX
| SW BND | *3000
| NE BND | *6000
*2100-MOCA
&95.6440 ALASKA VOR Federal Airway V440 is Amended to Read in Part
Yucon, AK FIX | Unalakleet, AK VOR/DME
| W BND | 4600
| E BND | 8000
&95.6423 HAWAII VOR Federal Airway V23 is Amended to Read in Part
Jessi, HI FIX | *Fires, HI FIX | 8000
*13000-MRA

From | To | MEA | MAA
&95.7001 JET ROUTES
&95.7037 Jet Route J37 is Amended to Read in Part
Brooke, VA VORTAC | Nales, DE FIX | 18000 | 31000
&95.7060 Jet Route J60 is Amended to Read in Part
Philipsburg, PA VORTAC | Sparta, NJ VORTAC | 18000 | 45000
&95.7204 Jet Route J204 is Amended to Read in Part
Miles City, MT VOR/DME | Hilgr, MT FIX | 19000 | 45000
Hilgr, MT FIX | Great Falls, MT VORTAC | 18000 | 45000

Airway Segment: From | Airway Segment: To | Changeover Points: Distance | Changeover Points: From
&95.8003 VOR Federal Airway Changeover Points V104 is Amended to Add Changeover Point
Massena, NY VORTAC | Plattsburgh, NY VORTAC | 16 | Massena
V271 is Amended to Add Changeover Point
Muskegon, MI VORTAC | Manistee, MI VOR/DME | 37 | Muskegon

[FR Doc. 2011-30096 Filed 11-21-11; 8:45 am]

BILLING CODE 4910-13-P